DEPARTMENT OF THE INTERIOR

National Park Service

[NPS-WASO-NAGPRA-12549; PPWOCRADN0-PCU00RP14.R50000]

Notice of Inventory Completion: U.S. Department of the Interior, National Park Service, Grand Canyon National Park, Grand Canyon, AZ

AGENCY: National Park Service, Interior.

ACTION: Notice.

SUMMARY: The U.S. Department of the Interior, National Park Service, Grand Canyon National Park has completed an inventory of human remains, in consultation with the appropriate Indian tribes, and has determined that there is a cultural affiliation between the human remains and present-day Indian tribes. Representatives of any Indian tribe that believes itself to be culturally affiliated with the human remains may contact Grand Canyon National Park. Repatriation of the human remains to the Indian tribes stated below may occur if no additional claimants come forward.

DATES: Representatives of any Indian tribe that believes it has a cultural affiliation with the human remains and associated funerary objects should contact Grand Canyon National Park at the address below by May 10, 2013.

ADDRESSES: David Uberuaga, Superintendent, Grand Canyon National Park, P.O. Box 129, Grand Canyon, AZ 86023, telephone (928) 638-7945.

SUPPLEMENTARY INFORMATION: Notice is here given in accordance with the Native American Graves Protection and Repatriation Act (NAGPRA), 25 U.S.C. 3003, of the completion of an inventory of human remains in the possession of Grand Canyon National Park, Grand Canyon, AZ. The human remains were removed from within Grand Canyon National Park, Coconino County, AZ.

This notice is published as part of the National Park Service's administrative responsibilities under NAGPRA, 25 U.S.C. 3003(d)(3). The determinations in this notice are the sole responsibility of the Superintendent, Grand Canyon National Park.

Consultation

A detailed assessment of the human remains was made by Grand Canyon National Park professional staff in consultation with representatives of the Havasupai Tribe of the Havasupai Reservation, Arizona; Hopi Tribe of Arizona; Hualapai Indian Tribe of the Hualapai Indian Reservation, Arizona; Kaibab Band of Paiute Indians of the Kaibab Indian Reservation, Arizona; Las Vegas Tribe of Paiute Indians of the Las Vegas Indian Colony, Nevada; Moapa Band of Paiute Indians of the Moapa River Indian Reservation, Nevada; Navajo Nation, Arizona, New Mexico, & Utah; Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); San Juan Southern Paiute Tribe of Arizona; White Mountain Apache Tribe of the Fort Apache Reservation, Arizona; Yavapai-Apache Nation of the Camp Verde Indian Reservation, Arizona; and Zuni Tribe of the Zuni Reservation, New Mexico (hereafter referred to as “The Tribes”).

History and Description of the Remains

In 1967-1968, human remains representing a minimum of six individuals were removed from the Unkar Delta site in Coconino County, AZ, during legally authorized excavations by the School of American Research under the direction of Douglas W. Schwartz. The human remains were curated at the School of American Research until 1980, when they were transferred to the University of Arizona, Tucson, AZ. In 2006, the human remains were transferred to Grand Canyon National Park. No known individuals were identified. No associated funerary objects are present.

The Unkar Delta site is a complex of 52 agricultural and habitation areas spread across 300 acres. Site architecture, cross-dating, ceramics, and tools indicate that the site was occupied between A.D. 750 and 1200. Three culturally distinct groups of people are represented at Unkar Delta—the Virgin and Kayenta branches of the ancestral Puebloan peoples and the Cohonina people.

Architectural similarities, geography, and material culture indicate close cultural and historical ties between the ancestral Puebloan peoples and the Hopi Tribe of Arizona and Zuni Tribe of the Zuni Indian Reservation, New Mexico.

Archeological assemblages, geography, place names, and oral history indicate cultural and historical ties between the inhabitants of the Unkar Delta and several of the Southern Paiute tribes (Kaibab Band of Paiute Indians, Las Vegas Tribe of Paiute Indians, Moapa Band of Paiute Indians, San Juan Southern Paiute Tribe of Arizona, and Shivwits Band of Paiutes).

Geography and oral history indicate close historical ties between the inhabitants of the Unkar Delta and the Havasupai Tribe of the Havasupai Reservation, Arizona.

Determinations Made by Grand Canyon National Park

Officials of Grand Canyon National Park have determined that:

• Pursuant to 25 U.S.C. 3001(9), the human remains described in this notice represent the physical remains of six individuals of Native American ancestry.

• Pursuant to 25 U.S.C. 3001(2), there is a relationship of shared group identity that can be reasonably traced between the Native American human remains and the Havasupai Tribe of the Havasupai Reservation, Arizona; Hopi Tribe of Arizona; Kaibab Band of Paiute Indians of the Kaibab Indian Reservation, Arizona; Las Vegas Tribe of Paiute Indians of the Las Vegas Indian Colony, Nevada; Moapa Band of Paiute Indians of the Moapa River Indian Reservation, Nevada; Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); San Juan Southern Paiute Tribe of Arizona; and Zuni Tribe of the Zuni Reservation, New Mexico.

Additional Requestors and Disposition

Representatives of any Indian tribe that believes itself to be culturally affiliated with the human remains should contact David Uberuaga, Superintendent, Grand Canyon National Park, P.O. Box 129, Grand Canyon, AZ 86023, telephone (928) 638-7945, before May 10, 2013. Repatriation of the human remains to the Havasupai Tribe of the Havasupai Reservation, Arizona; Hopi Tribe of Arizona; Kaibab Band of Paiute Indians of the Kaibab Indian Reservation, Arizona; Las Vegas Tribe of Paiute Indians of the Las Vegas Indian Colony, Nevada; Moapa Band of Paiute Indians of the Moapa River Indian Reservation, Nevada; Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); San Juan Southern Paiute Tribe of Arizona; and Zuni Tribe of the Zuni Reservation, New Mexico may proceed after that date if no additional claimants come forward.

Grand Canyon National Park is responsible for notifying The Tribes that this notice has been published.

Dated: March 11, 2013.
Sherry Hutt,
Manager, National NAGPRA Program.

[FR Doc. 2013-08377 Filed 4-9-13; 8:45 am]

BILLING CODE 4312-50-P